DEPARTMENT OF COMMERCE

International Trade Administration

[A-583-816]

Certain Stainless Steel Butt-Weld Pipe Fittings from Taiwan: Notice of Extension of Time Limit for the Final Results of Antidumping Duty Administrative Review

AGENCY: Import Administration, International Trade Administration, Department of Commerce.

SUMMARY: The Department of Commerce (the Department) is extending the time limit for the final results of the administrative review of the antidumping duty order on certain stainless steel butt-weld pipe fittings from Taiwan. The period of review is June 1, 2003, through May 31, 2004. This extension is made pursuant to section 751(a)(3)(A) of the Tariff Act of 1930, as amended by the Uruguay Round Agreements Act (the Act).

EFFECTIVE DATE: October 31, 2005.

FOR FURTHER INFORMATION CONTACT: Helen Kramer or Kristin Najdi, Office 7, AD/CVD Operations, Import Administration, International Trade Administration, U.S. Department of Commerce, 14th Street and Constitution Avenue, NW, Washington, DC 20230; telephone: (202) 482-0405 and (202) 482-8221, respectively.

SUPPLEMENTARY INFORMATION:

Background

On July 11, 2005, the Department published the preliminary results of the administrative review of the antidumping duty order on certain stainless steel butt-weld pipe fittings from Taiwan covering the period June 1, 2003, through May 31, 2004. See 70 FR 39735. The final results for the antidumping duty administrative review of certain stainless steel butt-weld pipe fittings from Taiwan are currently due no later than November 8, 2005.

Extension of Time Limits for Final Results

Section 751(a)(3)(A) of the Act requires the Department to make a final determination in an administrative review within 120 days after the date on which the preliminary determination is published. However, if it is not practicable to complete the review within this time period, section 751(a)(3)(A) of the Act allows the Department to extend the time limit for the final results to 180 days (or 300 days if the Department does not extend the time limit for the preliminary results) from the date of publication of the preliminary results.

In accordance with section 751(a)(3)(A) of the Act, and 19 CFR 351.213(h)(2), the Department finds that it is not practicable to complete the review within the original time frame (i.e., by November 8, 2005) because of voluminous affiliation allegations raised in petitioners' case briefs, requiring more time for analysis. Because it is not practicable to complete this administrative review within the time limit mandated by section 751(a)(3)(A) of the Act and 19 CFR 351.213(h)(2), the Department is extending the time limit for completion of the final results of this administrative review by 30 days, to no later than December 8, 2005.

Dated: October 25, 2005.
Stephen J. Claeys,
Deputy Assistant Secretary for Import Administration.

[FR Doc. E5-6011 Filed 10-28-05; 8:45 am]

BILLING CODE 3510-DS-S